DEPARTMENT OF EDUCATION

[Docket ID ED-2017-IES-0131]

Privacy Act of 1974; System of Records-National Center for Education Statistics (NCES) Longitudinal and Cross-Sectional Studies

AGENCY: National Center for Education Statistics, Institute of Education Sciences, Department of Education.

ACTION: Notice of a modified system of records.

SUMMARY: In accordance with the Privacy Act of 1974, as amended (Privacy Act), the Department of Education (Department) publishes this notice of a modified system of records entitled “National Center for Education Statistics (NCES) Longitudinal and Cross-sectional Studies” (18-13-01). This system is used to fulfill NCES's legislative mandate to collect, report, analyze, and disseminate statistical data on the condition and progress of education in the United States and other nations at the early childhood, preschool, elementary, secondary, postsecondary, and adult levels, including data on the critical influences, contexts, and transitions of: Students in elementary, secondary, postsecondary, and graduate education, and into employment and adult experiences; children at early childhood stage; homeschooled students; the general adult population; and participants in career training.

DATES: The Department seeks comment on the modified system of records described in this notice in accordance with the requirements of the Privacy Act. We must receive your comments on or before December 14, 2018.

This modified system of records will become applicable upon publication in the Federal Register on November 14, 2018, unless the modified system of records notice needs to be changed as a result of public comment. Modified routine uses (1) and (2) in the ROUTINE USES OF RECORDS MAINTAINED IN THE SYSTEM, INCLUDING CATEGORIES OF USERS AND PURPOSES OF SUCH USES section will become applicable upon the expiration of the 30-day period of public comment on December 14, 2018, unless any of the modified routine uses in the system of records notice need to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Commissioner, National Center for Education Statistics, Institute of Education Sciences, U.S. Department of Education, Potomac Center Plaza (PCP), 550 12th Street SW, 4th Floor, Washington, DC 20202-4160.

Privacy Note: The Department's policy is to make all comments received from members of the public available for public viewing in their entirety on the Federal eRulemaking Portal at www.regulations.gov. Therefore, commenters should be careful to include in their comments only information that they wish to make publicly available.

Assistance to Individuals With Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Kashka Kubzdela, National Center for Education Statistics, Institute of Education Sciences, U.S. Department of Education, PCP, 550 12th Street SW, 4th Floor, Washington, DC 20202-4160. Telephone: (202) 245-7377. Email: NCES.Information.Collections@ed.gov.

If you use a telecommunications device for the deaf (TDD) or text telephone (TTY), you may call the Federal Relay Service (FRS) toll free at 1-800-877-8339.

SUPPLEMENTARY INFORMATION: This system of records is used to fulfill NCES's legislative mandate to collect, report, analyze, and disseminate statistical data on the condition and progress of education in the United States and other nations at the early childhood, preschool, elementary, secondary, postsecondary, and adult levels. These data must be timely, objective, and non-ideological; free of political influence and bias; and relevant and useful to practitioners, researchers, policymakers, and the public.

The Department previously published the NCES Longitudinal Studies and the School and Staffing Surveys system of records in the Federal Register on June 4, 1999 (64 FR 30181-82). This modified system of records notice is updating:

(a) The name of the system and the system's security classification to indicate that it is unclassified.

(b) The system location to provide the current address of the Department's Institute of Education Sciences' National Center for Education Statistics office and the locations of its contractors and subcontractors serving as additional system locations;

(c) The system manager to reflect the location of the National Center for Education Statistics;

(d) The section entitled “AUTHORITY FOR MAINTENANCE OF THE SYSTEM” to reflect the updated authorizing law for collecting and maintaining the records in this system of records;

(e) The section entitled “PURPOSES(S) OF THE SYSTEM” to align the purpose with the legislative mandate set in the Education Sciences Reform Act of 2002 (ESRA) (20 U.S.C. 9541 and 9543);

(f) The section entitled “CATEGORIES OF INDIVIDUALS COVERED BY THE SYSTEM” to provide a streamlined description and updated list of studies for which records are maintained (the categories of individuals in the system were neither expanded nor reduced), and to add that minors' participation in the listed studies is subject to “implicit or explicit parental or legal guardian consent to participate . . . depending on school or school district requirements and on the Department's Protection of Human Subjects regulations (34 CFR part 97).”;

(g) The section entitled “CATEGORIES OF RECORDS IN THE SYSTEM” to provide a streamlined description of the collected records;

(h) The section entitled “RECORD SOURCE CATEGORIES” to clarify and update the description to reflect that information in the records comes from responses to survey and assessment instruments and from administrative records maintained by K-12 schools and school districts, postsecondary institutions, the Department, and third-parties, including State and Federal agencies, as well as vendors, such as the National Student Clearinghouse (NSC);

(i) The section entitled “ROUTINE USES OF RECORDS MAINTAINED IN THE SYSTEM, INCLUDING CATEGORIES OF USERS AND PURPOSES OF SUCH USES” to modify both of the routine uses (Contract Disclosure and Research Disclosure) to replace the statement: “will be required to maintain safeguards under the Privacy Act of 1974 and under section 406(d)(4) of [the General Education Provisions Act] GEPA (20 U.S.C. 1221e-1(d)(4)) with respect to such records” with: “must agree to safeguards to protect the security and confidentiality of the records disclosed from this system, consistent with ESRA (20 U.S.C. 9573);” to add a citation for “the Individuals with Disabilities Education Act (IDEA) (20 U.S.C. 1417(c); 34 CFR 300.610-300.611, 300.613-300.623, and 300.625-300.627)” as applicable to the disclosure of records in this system by NCES; and to clarify for the Research Disclosure routine use that directly personally identifiable respondent information, such as name and contact information, is stored separately from the rest of the data collected in this system, and is not made available as part of a research disclosure, and add that the researcher must agree to use the information for statistical purposes only, not redisclose any data in identifiable form, and permit NCES' periodic inspection;

(j) The section entitled “POLICIES AND PRACTICES FOR STORAGE OF RECORDS” to reflect updated electronic storage practices on secure servers and other secure electronic storage media, and to state that directly personally identifiable contact information is stored separately from the rest of the data collected in this system;

(k) The section entitled “POLICIES AND PRACTICES FOR RETRIEVAL OF RECORDS” to include that records are retrieved by title of survey and the unique number, and are indexed by a unique number assigned to each individual, which can be cross-referenced when needed with the separately stored direct personal identifiers to allow the records to be retrieved by name and contact information;

(l) The section entitled “POLICIES AND PRACTICES FOR RETENTION AND DISPOSAL OF RECORDS” to indicate that the Department will submit a retention and disposition schedule to the National Archives and Records Administration (NARA) for review; and, that the records contained in this system will not be destroyed until NARA approves said schedule;

(m) The section entitled “ADMINISTRATIVE, TECHNICAL, AND PHYSICAL SAFEGUARDS” to more accurately describe the various safeguards NCES and the Department employ to protect the data in this system; and

(n) The sections entitled “RECORD ACCESS PROCEDURES” and “NOTIFICATION PROCEDURES” to specify which necessary particulars are required for an individual to provide when requesting to be notified if the system of records contains a record pertaining to him or her or when accessing a record.

(o) A new section entitled “HISTORY” also has been added to the system of records notice to comply with the requirements of Office of Management and Budget Circular No. A-108.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: November 7, 2018.
Mark Schneider,
Director, Institute of Education Sciences.

SYSTEM NAME AND NUMBER:

National Center for Education Statistics (NCES) Longitudinal and Cross-sectional Studies (18-13-01).

SECURITY CLASSIFICATION:

Unclassified.

SYSTEM LOCATION:

National Center for Education Statistics (NCES), Institute of Education Sciences, U.S. Department of Education (Department), Potomac Center Plaza (PCP), 550 12th Street SW, 4th Floor, Washington, DC 20202-4160. See the Appendix at the end of this system notice for additional system locations.

SYSTEM MANAGER(S):

Commissioner, National Center for Education Statistics, Institute of Education Sciences, U.S. Department of Education, PCP, 550 12th Street SW, 4th Floor, Washington, DC 20202.

AUTHORITY FOR MAINTENANCE OF THE SYSTEM:

The data collections being administered and their maintenance are authorized under the Education Sciences Reform Act of 2002 (ESRA) (20 U.S.C. 9541-9547 and 9571-9576).

PURPOSE(S) OF THE SYSTEM:

This system is used to fulfill NCES's legislative mandate to collect, report, analyze, and disseminate statistical data on the condition and progress of education in the United States and other nations at the early childhood, preschool, elementary, secondary, postsecondary, and adult levels. These data must be timely, objective, and non-ideological; free of political influence and bias; and relevant and useful to practitioners, researchers, policymakers, and the public.

CATEGORIES OF INDIVIDUALS COVERED BY THE SYSTEM:

This system maintains records about individuals randomly selected from their respective populations of particular subgroups of children and adults (pre-Kindergarten children, pre-Kindergarten through graduate school students, parents or legal guardians, teachers, administrators, service providers, and general population adults) who voluntarily agree to participate (with implicit or explicit parental or legal guardian consent to participate for minors, depending on school or school district requirements and on the Department's Protection of Human Subjects regulations (34 CFR part 97)) in one of the NCES studies categorized below (with example studies provided for each category):

1. National household studies [e.g., National Household Education Survey (NHES) including the current Early Childhood Education/Program Participation (ECPP) and Parent and Family Involvement in Education (PFI), and with past PFI-Enrolled and PFI-Homeschooled modules, the Adult Training and Education Survey (ATES) studies, and the past Adult Education (AE), Adult Education for Work-Related Reasons (AEWR), Adult Education and Lifelong Learning (AELL), Before- and After-School Programs and Activities (ASPA), School Readiness (SR), Civic Engagement (CE), School Safety and Discipline (SS&D), and Household and Library Use (HHL)];

2. National and international K-12 school and staff studies [e.g., Schools and Staffing Survey (SASS) and its follow-ups Teacher Follow-Up Survey (TFS), Principal Follow-Up Survey (PFS), and Beginning Teacher Longitudinal Study (BTLS); redesigned SASS—National Teacher and Principal Surveys (NTPS); and studies not related to SASS, such as Teacher Compensation Survey (TCS)*, Teacher Pilot Study (TPS), School Survey of Crime and Safety (SSOCS), Teaching and Learning International Survey (TALIS) and its associated Video Studies, and ED School Climate Surveys (EDSCLS)];

3. National early childhood longitudinal studies [e.g., Early Childhood Longitudinal Study, Birth Cohort (ECLS-B); and Early Childhood Longitudinal Study, Kindergarten Class studies (ECLS-K)];

4. International K-12 assessments studies [e.g., International Early Learning Study (IELS); Progress in International Reading Literacy Study (PIRLS); Civic Education Study (CivEd); Program for International Student Assessment (PISA); Program for International Student Assessment (PISA) Young Adult Follow-up (YAF) Study; Trends in International Mathematics and Science Study (TIMSS) and its associated Video Studies; and International Computer and Information Literacy Study (ICILS)];

5. National middle grades longitudinal studies [e.g., Middle Grades Longitudinal Study (MGLS)];

6. National high school longitudinal studies [e.g., National Longitudinal Study of the High School Class of 1972 (NLS); National Education Longitudinal Study of 1988 (NELS); Education Longitudinal Study of 2002 (ELS); High School Longitudinal Study of 2009 (HSLS); and High School and Beyond Longitudinal studies (HS&B)];

7. National postsecondary studies [e.g., Recent College Graduates (RCG); National Postsecondary Student Aid Study (NPSAS) and its follow-ups Beginning Postsecondary Students Longitudinal Study (BPS) and Baccalaureate and Beyond Longitudinal Study (B&B); National Postsecondary Student Aid Study, Administrative Collection (NPSAS-AC); National Postsecondary Education Cooperative—Sample Surveys (NPEC-S); National Study of Postsecondary Faculty (NSOPF); and National Center for Education Research NCER-NPSAS Grant Studies];

8. National and international adult assessment studies [e.g., International Adult Literacy Survey (IALS); Adult Literacy and Lifeskills Survey (ALL); National Assessment of Adult Literacy (NAAL); and Program for the International Assessment of Adult Competencies (PIAAC)];

9. National quick response studies [e.g., Quick Response Information System (QRIS) made up of pre-postsecondary Fast Response Survey System (FRSS) and Postsecondary Education Quick Information System (PEQIS)]; and

10. NCES national and international developmental studies [e.g., cognitive interviews, focus groups, feasibility studies, usability tests, pilot tests, web tests, etc., utilized to develop new or to improve current data collection methodologies and instruments for particular existing or multiple current and future data collection programs].

* TCS is an administrative records survey that collected between Fiscal Years (FY) 2007-2011 total compensation, teacher status, and demographic data about all teachers from multiple States.

CATEGORIES OF RECORDS IN THE SYSTEM:

This system consists of responses from students, their parents or legal guardians, teachers, administrators, service providers, and other adults to data collection instruments including information such as background and demographic data, functional measures (reports of children's functioning in cognitive, social, emotional, and physical domains), family characteristics, education and/or employment experiences, finances, aspirations, plans, and attitudes. Cognitive assessment scores, administrative and financial aid records, and high school and college transcripts are also appended to the records. The appended administrative records contain data such as attendance, program participation, and other information.

The records for service providers, schools/institutions, and local educational agencies contain information on numbers and characteristics of students, teaching staff, and administrators; data on facilities, programs, services, and finances; and information related to student enrollment, persistence, completion, and performance. The records related to teachers and administrators contain, in addition to the above, data on certifications, training, experience, staff evaluations, salary, benefits, and attitudes and opinions related to various aspects of education and operations.

RECORD SOURCE CATEGORIES:

Information in the records comes from responses to survey and assessment instruments and from administrative records maintained by K-12 schools and school districts, postsecondary institutions, the Department, and third-parties, including State and Federal agencies, as well as vendors, such as the National Student Clearinghouse (NSC).

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purpose for which the record was collected. Any disclosure of individually identifiable information from a record in this system must also comply with the requirements of Section 183 of the ESRA (20 U.S.C. 9573) and its confidentiality standards that apply to all collection, reporting, and publication of data by NCES. Any disclosure of personally identifiable information (PII) from students' education records that were obtained from schools, school districts, postsecondary institutions, and other sources must also comply with the requirements of the Individuals with Disabilities Education Act (IDEA) (20 U.S.C. 1417(c); 34 CFR 300.610-300.611, 300.613-300.623, and 300.625-300.627) and the Family Educational Rights and Privacy Act (20 U.S.C. 1232g; 34 CFR part 99), which protect the privacy of student education records and the PII contained therein.

(1) Contract Disclosure. When NCES contracts with a private firm for the purpose of collating, analyzing, aggregating, maintaining, appending, or otherwise refining records in this system, the Commissioner of Education Statistics may release relevant records to the contractor. The contractor must agree to safeguards to protect the security and confidentiality of the records disclosed from this system, consistent with Section 183 of the ESRA (20 U.S.C. 9573).

(2) Research Disclosure. Where the Commissioner of Education Statistics determines that an individual or organization is qualified to carry out specific research, the Commissioner may disclose information from the system of records to that researcher solely for the purpose of carrying out that research. Directly personally identifiable respondent information, such as name and contact information, are stored separately from the rest of the data collected in this system, and are not made available as part of a research disclosure. The researcher must agree to safeguards to protect the security and confidentiality of the records disclosed from this system, consistent with Section 183 of the ESRA (20 U.S.C. 9573). Furthermore, the researcher must agree to use the information for statistical purposes only, not redisclose any data in identifiable form, and permit NCES' periodic inspection.

POLICIES AND PRACTICES FOR STORAGE OF RECORDS:

Records are maintained in a database on NCES' or its contractors' or subcontractors' secure servers and in other secure electronic storage media. Directly personally identifiable respondent information, such as name and contact information, is stored separately from the rest of the data collected in this system.

POLICIES AND PRACTICES FOR RETRIEVAL OF RECORDS:

Records in the location file are indexed by a unique number assigned to each individual, which can be cross-referenced when needed with the separately stored direct personal identifiers. Records are retrieved by title of survey and the unique number.

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Access to the records is limited to authorized personnel who are briefed regarding confidentiality of the data, are required to sign a written statement attesting to their understanding of the significance of the confidentiality requirement and penalties for non-compliance, and have received Department security clearances.

All physical access to the NCES, contractor, and subcontractor sites where this system of records is maintained, is controlled and monitored by security personnel who check each individual entering the buildings for his or her employee or visitor badge.

The computer systems employed offer a high degree of resistance to tampering and circumvention. Security systems limit data access to contract staff on a “need to know” basis, and control each individual user's ability to access and alter records within the system.

The NCES, contractor, and subcontractor employees who “maintain” (including collect, maintain, use, or disseminate) data in this system of records must comply with the requirements of the confidentiality standards under Section 183 of the ESRA (20 U.S.C. 9573).

RECORD ACCESS PROCEDURES:

If you wish to gain access to a record that exists regarding you in this system of records, contact the system manager at the address listed above. You must provide necessary particulars such as the study in question, your name, current address, the date and place of your birth, and any other identifying information requested by the Department, while processing the request, to distinguish between individuals with the same name. Your request must meet the requirements in 34 CFR 5b.5, including proof of identity.

CONTESTING RECORD PROCEDURES:

If you wish to contest content of a record regarding you in this system of records, contact the system manager. Your request must meet the requirements in 34 CFR 5b.7.

NOTIFICATION PROCEDURES:

If you wish to determine whether a record exists regarding you in this system of records, contact the system manager at the address listed above. You must provide necessary particulars such as the study in question, your name, current address, the date and place of your birth, and any other identifying information requested by the Department, while processing the request, to distinguish between individuals with the same name. Your request must meet the requirements in 34 CFR 5b.5, including proof of identity.

EXEMPTIONS PROMULGATED FOR THE SYSTEM:

None.

HISTORY:

The system of records previously entitled “National Center for Education Statistics Longitudinal Studies and the School and Staffing Surveys” (18-13-01) was last published in the Federal Register at 64 FR 30181-30182 (June 4, 1999).

Appendix to 18-13-01

Additional System Locations

• ABT Associates, 4550 Montgomery Ave., Suite 800 North, Bethesda, MD 20815-3343

• Activate Research, 1001 Connecticut Ave. NW, #515, Washington, DC 20036

• American Institutes for Research (AIR), 1000 and 1025 Thomas Jefferson St. NW, Washington, DC 20007

• Branch Associates, 1628 John F. Kennedy Blvd., #800, Philadelphia, PA 19103

• Child Trends, 7315 Wisconsin Ave., #1200w, Bethesda, MD 20814

• Educational Testing Service (ETS), 660 Rosedale Rd., Princeton, NJ 08541

• EurekaFacts, 51 Monroe St., Plaza East 10, Rockville, MD 20850

• Fors Marsh Group, 1010 N Glebe Rd., #510, Arlington, VA 22201

• Hager Sharp, 1030 15th St. NW, Suite 600E, Washington, DC 20005

• Mathematica Policy Research, 1100 First St. NE, #1200, Washington, DC 20002

• National Opinion Research Center (NORC), 1155 E 60th St., Chicago, Illinois 60637; 55 E Monroe, Suite 3000, Chicago, IL 60603; 4350 East-West Hwy., 8th Fl., Bethesda, MD 20814

• Pearson Inc., 2510 N Dodge St., Iowa City, Iowa 52245

• Research Support Services, 906 Ridge Ave., Evanston, IL 60202

• RTI International, 3040 E Cornwallis Rd., Research Triangle Park, NC 27709-2194

• Sanametrix, 1120 20th St. NW, South Tower, Suite 200, Washington, DC 20036; 506 Wonderwood Drive, Charlotte, NC 28211; 24574 Spriggs Court, Hollywood, MD 20636

• Shugoll Research, 7475 Wisconsin Ave., #200, Bethesda, MD 20814; 1800 Diagonal Rd., #300, Alexandria, VA 22314

• SRI International, 1100 Wilson Boulevard, #2800, Arlington, VA 22209

• Strategic Analytics Inc., 6503 Shipyard Place, Falls Church, VA 22043

• Synergy Enterprises, 8757 Georgia Ave., Silver Spring, MD 20910

• U.S. Census Bureau, 4600 Silver Hill Rd., Suitland, MD 20746; 1201 E 10th St., Jeffersonville, IN 47190

• WESTAT, 1600 Research Blvd., Rockville, MD 20850.

[FR Doc. 2018-24847 Filed 11-13-18; 8:45 am]

BILLING CODE 4000-01-P